DEPARTMENT OF COMMERCE

Internatioal Trade Administration

(A-570-848)

Freshwater Crawfish Tail Meat from the People's Republic of China: Notice of Partial Rescission of Antidumping Duty Administrative Review

AGENCY: Import Administration, International Trade Administration, Department of Commerce.

EFFECTIVE DATE: July 23, 2008.

FOR FURTHER INFORMATION CONTACT: Dmitry Vladimirov or Minoo Hatten, AD/CVD Operations, Office 5, Import Administration, International Trade Administration, U.S. Department of Commerce, 14th Street and Constitution Avenue, NW, Washington, DC 20230; telephone: (202) 482-0665 and (202) 482-1690, respectively.

SUPPLEMENTARY INFORMATION:

Background

On October 31, 2007, the Department of Commerce (Department) published a notice of initiation of an administrative review of the antidumping duty order on freshwater crawfish tail meat from the People's Republic of China (PRC). See Initiation of Antidumping and Countervailing Duty Administrative Reviews, 72 FR 61621 (October 31, 2007). The review was initiated with respect to six companies¹ and covers the period September 1, 2006, through August 31, 2007.

¹ These companies are Anhui Tongxin Aquatic Product & Food Co., Ltd. (Anhui), Jingdezhen Garay Foods Co., Ltd. (Jingdezhen), Shanghai Now Again International Trading Co., Ltd. (Shanghai Now Again), Xiping Opeck Food Co., Ltd. (Xiping Opeck), Xuzhou Jinjiang Foodstuffs Co., Ltd. (Xuzhou), and Yancheng Hi-King Agriculture Developing Co., Ltd. (Hi-King).

On November 15, 2007, we selected Xuzhou and Hi-King for individual examination in this administrative review. See memorandum to Abdelali Elouaradia entitled “2006-2007 Antidumping Duty Administrative Review of Freshwater Crawfish Tail Meat from the People's Republic of China: Respondent Selection Memorandum,” dated November 15, 2007. On November 16, 2007, the Department issued the antidumping questionnaire to Xuzhou and Hi-King. The Department also issued either a separate-rate status application or separate-rate status certification to the firms not selected for individual examination (i.e., Anhui, Jingdezhen, Shanghai Now Again, and Xiping Opeck), in which the Department asked these companies to submit their separate-rate information in the event they wished to qualify for separate-rate status for the POR.

On December 12, 2007, Jingdezhen, Shanghai Now Again, and Xiping Opeck submitted letters to the Department, stating that they did not make any sale or entry, directly or through any third parties, of the subject merchandise to the United States during the POR. On January 16, 2008, Anhui stated that it did not have any entries or export sales, directly or indirectly, of subject merchandise to the United States during the POR. Pursuant to 19 CFR 351.213(d)(3), Jingdezhen, Shanghai Now Again, Xiping Opeck, and Anhui requested that the Department rescind its review with respect to these companies.

On January 29, 2008, the Crawfish Processors Alliance, the petitioner, withdrew its request for a review with respect to Anhui, Jingdezhen, and Xuzhou. Further, on February 20, 2008, Xuzhou withdrew its request for a review.

Rescission of Administrative Review in Part

Pursuant to 19 CFR 351.213(d)(1), the Department will rescind an administrative review, in whole or in part, if a party that requested a review withdraws the request within 90 days of the date of publication of the notice of initiation of the requested review or withdraws its request at a later date if the Department determines that it is reasonable to extend the time limit for withdrawing the request. As indicated above, Xuzhou withdrew its request for a review on February 20, 2008, which is after the 90-day deadline. Xuzhou maintained that its request to withdraw its request was made early in the review and, with the exception of the petitioner's request for a review (which was withdrawn in a timely manner ²), no other party has requested a review for Xuzhou.

² The petitioner withdrew its request for a review of Jingdezhen, Xuzhou, and Anhui within 90 days after date of publication of notice of initiation in the Federal Register.

Given the fact that we have not yet committed significant resources to the review of Xuzhou, we find it reasonable to accept Xuzhou's request to withdraw from this review. Specifically, we have not issued supplemental questionnaires regarding Xuzhou's section C and D responses, we have not calculated a preliminary margin for Xuzhou, nor have we verified Xuzhou's data.

As indicated above, the petitioner withdrew its request for a review of Jingdezhen, Xuzhou, and Anhui in a timely manner. Because no party has opposed the request for the withdrawal of the review of Jingdezhen, Xuzhou, or Anhui and for the reasons stated above regarding Xuzhou's withdrawal, the Department is rescinding this review in part with respect to these companies in accordance with 19 CFR 351.213(d)(1).

The Department intends to examine claims made by Shanghai Now Again and Xiping Opeck of no sales or entries of the subject merchandise to the United States during the POR by examining U.S. Customs and Border Protection (CBP) entry data.

Assessment

The Department will instruct CBP to assess antidumping duties on all appropriate entries. For Jingdezhen, Anhui, and Xuzhou, antidumping duties shall be assessed at a rate equal to the cash deposit of estimated antidumping duties required at the time of entry, or withdrawal from warehouse, for consumption, in accordance with 19 CFR 351.212(c)(1)(i). The Department will issue liquidation instructions to CBP 15 days after the publication of this notice.

This notice is issued and published in accordance with section 777(i) of the Tariff Act of 1930, as amended, and 19 CFR 351.213(d)(4).

Dated: July 16, 2008.
Stephen J. Claeys,
Deputy Assistant Secretary for Import Administration.

[FR Doc. E8-16855 Filed 7-22-08; 8:45 am]

BILLING CODE 3510-DS-S